COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 9/5/2011.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 4/22/2011 (76 FR 22680); 5/6/2011 (76 FR 26279); 6/3/2011 (76 FR 32146); and 6/10/2011 (76 FR 34064-34065), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: 5340-00-NIB-0079—Notebook Computer Combination Lock.

NSN: 5340-00-NIB-0099—Desktop & Peripherals Locking Kit, Standard.

NPA: Alphapointe Association for the Blind, Kansas City, MO.

Contracting Activity: General Services Administration, Fort Worth, TX.

COVERAGE: A-List for the Total Government Requirement as aggregated by the General Services Administration.

NSN: 8105-00-117-9860—Envelope, Bubble Padded, 6″ x 10″.

NSN: 8105-00-117-9866—Envelope, Bubble Padded, 7¼″ x 12″.

NSN: 8105-00-117-9869—Envelope, Bubble Padded, 8½″ x 12″.

NSN: 8105-00-117-9872—Envelope, Bubble Padded, 9½″ x 14½″.

NSN: 8105-00-117-9879—Envelope, Bubble Padded, 10½″ x 16″.

NSN: 8105-00-117-9881—Envelope, Bubble Padded, 12½″ x 19″.

NSN: 8105-00-117-9886—Envelope, Bubble Padded, 14½″ x 20″.

NSN: 8105-00-290-0340—Envelope, Macerated Paper Padded, 6″ x 10″.

NSN: 8105-00-290-0343—Envelope, Macerated Paper Padded, 8½″ x 12″.

NSN: 8105-00-281-1168—Envelope, Macerated Paper Padded, 9½″ x 14½″.

NSN: 8105-00-281-1436—Envelope, Macerated Paper Padded, 10½″ x 16″.

COVERAGE: A-List for the Total Government Requirement as aggregated by the General Services Administration.

NSN: 8105-00-117-9870—Envelope, Bubble Padded, 8½″ x 14½″.

NSN: 8105-00-290-0342—Envelope, Macerated Paper Padded, 7¼″ x 12″.

NSN: 8105-00-281-1167—Envelope, Macerated Paper Padded, 12½″ x 19″.

NSN: 8105-00-281-1169—Envelope, Macerated Paper Padded, 14½″ x 20″.

COVERAGE: B-List for the Broad Government Requirement as aggregated by the General Services Administration.

NPA: Alphapointe Association for the Blind, Kansas City, MO.

Contracting Activity: General Services Administration, New York, NY.

NSN: M.R. 517—Pack, Party, Birthday, 8pc.

NSN: M.R. 518—Pack, Party, Birthday, Sports-Theme, 8pc.

NPA: Winston-Salem Industries for the Blind, Inc., Winston-Salem, NC.

Contracting Activity: Defense Commissary Agency, Fort Lee, VA.

COVERAGE: C-List for the requirements of military commissaries and exchanges as aggregated by the Defense Commissary Agency.

NSN: M.R. 1056—Mop, Spray, Wet.

NSN: M.R. 1066—Pad, Cleaning, Refill, Mop, Spray.

NPA: Industries for the Blind, Inc., West Allis, WI.

Contracting Activity: Defense Commissary Agency, Fort Lee, VA.

COVERAGE: C-List for the requirements of military commissaries and exchanges as aggregated by the Defense Commissary Agency.

USB Flash Drives, Level 3, Encrypted

NSN: 7045-00-NIB-0354—2G.

NSN: 7045-00-NIB-0355—4G.

NSN: 7045-00-NIB-0356—8G.

NSN: 7045-00-NIB-0357—16G.

NSN: 7045-00-NIB-0358—32G.

NSN: 7045-00-NIB-0360—Anti-Virus, 2G.

NSN: 7045-00-NIB-0361—Anti-Virus, 4G.

NSN: 7045-00-NIB-0362—Anti-Virus, 8G.

NSN: 7045-00-NIB-0363—Anti-Virus, 16G.

NSN: 7045-00-NIB-0364—Anti-Virus, 32G.

NPA: North Central Sight Services, Inc., Williamsport, PA.

Contracting Activity: General Services Administration, New York NY.

COVERAGE: A-List for the Total Government Requirement as aggregated by the General Services Administration.

NSN: 8465-01-580-1666—Load Lifter Attachment Strap, MOLLE Components, OCP.

NPA: The Arkansas Lighthouse for the Blind, Little Rock, AR.

Contracting Activity: Department of the Army Research, Development, & Engineering Command, Natick, MA.

COVERAGE: C-List for 100% of the requirement of the Department of the Army, as aggregated by the Department of the Army Research, Development, & Engineering Command, Natick, MA.

Services

Service Type/Location: Facilities Maintenance Services, Department of Public Works, Fort Knox, KY.

NPAs: NISH, Vienna, VA (Prime Contractor), Lakeview Center, Inc., Pensacola, FL (Subcontractor).

Contracting Activity: Dept of the Army, W6QM FT Knox Contr Ctr, Fort Knox, KY.

Service Type/Location: Contract Center Services, Human Resources Command, 1600 Spearhead Division Avenue, Fort Knox, KY.

NPAs: InspiriTec, Inc., Philadelphia, PA (Prime Contractor), Employment Source, Inc., Fayetteville, NC (Subcontractor).

Contracting Activity: Dept of the Army, W6QM FT Knox Contr Ctr, Fort Knox, KY.

Barry S. Lineback,
Director, Business Operations.

[FR Doc. 2011-19885 Filed 8-4-11; 8:45 am]

BILLING CODE 6353-01-P